ENVIRONMENTAL PROTECTION AGENCY

[FRL-8441-2]

Clean Water Act Section 303(d): Availability of 29 Total Maximum Daily Loads (TMDL) in Louisiana

AGENCY: Environmental Protection Agency (EPA).

ACTION: Notice of availability.

SUMMARY: This notice announces the availability for comment of the administrative record files for 29 TMDLs and the calculations for these TMDLs prepared by EPA Region 6 for waters listed in the Red, Sabine, and Pearl River Basins of Louisiana, under section 303(d) of the Clean Water Act (CWA). These TMDLs were completed in response to a court order in the lawsuit styled Sierra Club, et al. v. Clifford, et al., No. 96-0527, (E.D. La.).

DATES: Comments must be submitted in writing to EPA on or before September 4, 2007.

ADDRESSES: Comments on the 29 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 29 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes these 29 TMDLs pursuant to a consent decree entered in this lawsuit.

EPA Seeks Comment on 29 TMDLs

By this notice EPA is seeking comment on the following 29 TMDLs for waters located within Louisiana basins:

Subsegment | Waterbody name | Pollutant
090101 | Pearl River—MS State Line to Pearl River Navigation Canal | Mercury.
090102 | East Pearl River—Holmes Bayou to I-10 | Mercury.
090103 | East Pearl River—From I-10 to Lake Borgne (estuarine) | Mercury.
090105 | Pearl River Navigation Canal—From Pools Bluff to Lock No. 3 | Mercury.
090106 | Holmes Bayou—From the Pearl River to the West Pearl River (scenic) | Mercury.
090107 | Pearl River—From Pearl River Navigation Canal to Holmes Bayou | Mercury.
090201 | West Pearl River—From Headwaters to confluence with Holmes Bayou (scenic) | Mercury.
090202-5126 | Morgan River—From Porters River to its confluence with Pearl River (scenic) | Mercury.
090203 | Lower Bogue Chitto—From River Navigation Canal to Wilsons Slough | Mercury.
090204 | Pearl River Navigation Canal—Below Lock No. 3 | Mercury.
090205 | Wilson Slough—Bogue Chitto to West Pearl River | Mercury.
090206 | Bradley Slough—Bogue Chitto to West Pearl River | Mercury.
090207 | Middle Pearl River and West Middle Pearl River—From West Pearl River to Little Lake | Mercury.
090207-5112 | Morgan Bayou—Headwaters near I-10 to confluence with Middle River | Mercury.
090501 | Bogue Chitto River—From MS State Line to Pearl River Navigation Canal (scenic) | Mercury.
100401-0556575 | Ivan Lake | Mercury.
100703 | Black Lake and Clear Lake | Mercury.
100705 | Kepler Lake | Mercury.
100709 | Grand Bayou—Headwaters to Black Lake Bayou | Mercury.
100709-001 | Grand Bayou Reservoir | Mercury.
100803 | Saline Bayou—From Saline Lake to Red River | Mercury.
101302 | Iatt Lake | Mercury.
101501 | Big Saline Bayou—Catahoula Lake to Saline Lake | Mercury.
101502 | Saline Lake | Mercury.
101504 | Saline Bayou—Larto Lake to Saline Lake (scenic) | Mercury.
101505 | Larto Lake | Mercury.
101506 | Big Creek—Headwaters to Saline Lake | Mercury.
110101 | Toledo Bend Reservoir—TX-LA Line to Toledo Bend Dam | Mercury.
110503 | Vernon Lake | Mercury.

EPA requests that the public provide to EPA any water quality related data and information that may be relevant to the calculations for the 29 TMDLs. EPA will review all data and information submitted during the public comment period and revise the TMDLs where appropriate. EPA will then forward the TMDLs to the Louisiana Department of Environmental Quality (LDEQ). The LDEQ will incorporate the TMDLs into its current water quality management plan.

Dated: July 9, 2007.
Miguel I. Flores,
Director, Water Quality Protection Division, EPA Region 6.

[FR Doc. E7-13897 Filed 7-17-07; 8:45 am]

BILLING CODE 6560-50-P